ENVIRONMENTAL PROTECTION AGENCY

40 CFR Part 180

[OPP-2004-0211; FRL-7685-1]

Cyazofamid; Pesticide Tolerance; Technical Correction

AGENCY: Environmental Protection Agency (EPA).

ACTION: Final rule; correction.

SUMMARY: EPA issued a final rule in the Federal Register of September 30, 2004 establishing a tolerance for the combined residues of cyazofamid and its metabolite CCIM in or on potatoes, tomatoes, cucurbits, and imported wine. ISK Biosciences Corporation requested this tolerance under the Federal Food, Drug, and Cosmetic Act (FFDCA), as amended by the Food Quality Protection Act of 1996 (FQPA). Today's document is being issued to correct the signature block.

DATES: This correction is effective on September 30, 2004.

ADRESSES: Follow the detailed instructions as provided under ADDRESSES in the Federal Register document of September 30, 2004.

FOR FURTHER INFORMATION CONTACT: Janet Whitehurst, Registration Division (7505C), Office of Pesticide Programs, Environmental Protection Agency, 1200 Pennsylvania Ave., NW., Washington, DC 20460-0001; telephone number: (703) 305-6129; e-mail address: whitehurst.janet@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using EDOCKET at http://www.epa.gov/edocket/, you may access this Federal Register document electronically through the EPA Internet under the “Federal Register” listings at http://www.epa.gov/fedrgstr/. A frequently updated electronic version of 40 CFR part 180 is available at E-CFR Beta Site Two at http://www.gpoaccess.gov/ecfr/.

II. What Does this Correction Do?

FR Doc. 04-21931 published in the Federal Register of September 30, 2004 (69 FR 58290) (FRL-7367-4) is corrected as follows:

On page 58299, at the top of the first column, in the signature block for the Cyazomid pesticide tolerance, both the signature date and the signature were inadvertently left out. The date and signature should read as follows:

“Dated: September 23, 2004.”

“James Jones,”

III. Why is this Correction Issued as a Final Rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making today's technical correction final without prior proposal and opportunity for comment, because EPA is merely inserting language that was inadvertently omitted from the previously published final rule. EPA finds that this constitutes good cause under 5 U.S.C. 553(b)(B).

IV. Do Any of the Statutory and Executive Order Reviews Apply to this Action?

The applicable statutory and Executive Order reviews were included in the September 30, 2004 Federal Register document. This document is a technical correction and as such no new review requirements are applicable.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register.This final rule is not a “major rule” as defined by 5 U.S.C. 804(2).

List of Subjects in 40 CFR Part 180

Environmental protection, Administrative practice and procedure, Agriultural commodities, Pesticides and pests, Reporting and recordkeeping requirements.

Dated: November 9, 2004.
James Jones,
Director, Office of Pesticide Programs.

[FR Doc. 04-26820 Filed 12-7-04; 8:45 am]

BILLING CODE 6560-50-S